ENVIRONMENTAL PROTECTION AGENCY

40 CFR Part 70

[EPA-R09-OAR-2025-0038; FRL-12574-02-R9]

Revisions to the Clean Air Act Operating Permit Program; California; San Diego County Air Pollution Control District

AGENCY: Environmental Protection Agency (EPA).

ACTION: Direct final rule.

SUMMARY: With this direct final rule, the Environmental Protection Agency (EPA) is promulgating approval of revisions to the Clean Air Act Operating Permit Program (title V) of the San Diego County Air Pollution Control District (SDCAPCD or “District”) in California. The EPA is taking this final action in accordance with federal regulations and the Clean Air Act (CAA or “Act”).

DATES: This rule is effective November 4, 2025 without further notice, unless the EPA receives adverse comments by October 6, 2025. If the EPA receives adverse comments, we will publish a timely withdrawal in the Federal Register informing the public that the rule will not take effect.

ADDRESSES: Submit your comments, identified by Docket ID No. EPA-R09-OAR-2025-0038 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Camille Cassar, Rules Office (Air-3-2), U.S. Environmental Protection Agency, Region IX, cassar.camille@epa.gov.

SUPPLEMENTARY INFORMATION: Throughout this document, “we,” “us,” and “our” refer to the EPA.

Table of Contents

I. Why is the EPA using a direct final rule?

II. Background

III. What is the State's Proposed Title V Program Revision?

IV. EPA Evaluation of Title V Program Revision

V. Final Action

VI. Statutory and Executive Order Reviews

I. Why is the EPA using a direct final rule?

The EPA is publishing this final rule approving the SDCAPCD's proposed title V program revisions without prior proposal because we consider it to be a noncontroversial action and anticipate no adverse comments. However, in the “Proposed Rules” section of this Federal Register publication, the EPA is simultaneously publishing a proposal that will also serve as a public notice of San Diego's proposed title V program revisions pursuant to title 40 of the Code of Federal Regulations (CFR), section 70.4(i).

II. Background

The CAA Amendments of 1990 include title V, which requires states to develop an operating permits program that meets the federal criteria codified in 40 CFR part 70. The title V program requires certain sources of air pollution to obtain federal operating permits from their respective states. These federal operating permits improve enforcement and compliance by consolidating all applicable federal requirements into one federally enforceable document. Before states can issue title V permits, the EPA must approve their programs as amendments to appendix A of part 70. States may submit revisions to their approved programs for EPA approval. See EPA's Technical Support Document (TSD) for a more detailed discussion of the history of the title V program approvals for SDCAPCD.

III. What is the State's proposed Title V program revision?

Table 1 lists the rule submitted as part of the SDCAPCD's title V program revisions and the date it was adopted by the District and submitted by the California Air Resources Board (CARB), which is the governor's designee for California rule submittals.

Table 1—Submitted Rules
Rule No. | Rule title | Amended date | Submitted date ᵇ
1415 | Title V Operating Permits—Permit Process—Public Notification | 10/12/2023 | 01/19/2024
ᵇ CARB transmitted the submittal to the EPA by letter dated January 19, 2024.

The District submitted revisions to Rule 1415 (Title V Operating Permits—Permit Process—Public Notification) at Sections (a), (c), (d), (g), and (j) to conform to current public noticing, application publication, and record retention requirements codified at 40 CFR 70.5(c), 70.7(h) and 70.8(a)(3). Details regarding the revisions made, including a change-copy of Rule 1415, can be found in the TSD and the docket.

IV. EPA Evaluation of Title V Program Revision

EPA finds the District revisions to Rule 1415 (Title V Operating Permits—Permit Process—Public Notification) at Sections (a), (c), (d), (g), and (j) conform to and are consistent with current public noticing, application publication, and record retention requirements codified at 40 CFR 70.5(c), 70.7(h) and 40 CFR 70.6(a)(3)(ii)(B), respectively. Details regarding the revisions made can be found in the TSD available at https://www.regulations.gov.

V. Final Action

As authorized in 40 CFR 70.4(i), the EPA is fully approving the submitted revisions because we find the proposed changes to Rule 1415 align with 40 CFR part 70 program elements. Therefore, the proposed changes are approvable as title V program revisions. We do not anticipate adverse comments, so we are finalizing this action without proposing it in advance. However, in the Proposed Rules section of this Federal Register, we are simultaneously proposing approval of the same submitted rule. If we receive adverse comments on the proposed revisions by October 6, 2025, we will publish a timely withdrawal in the Federal Register to notify the public that the direct final approval will not take effect. The EPA would then address all public comments in a subsequent final rule based on the proposed action. If we do not receive timely adverse comments, this direct final approval will be effective without further notice on November 4, 2025. Pursuant to section 307(b)(1) of the Act, judicial review of this final agency action may be sought by filing a petition for review in the United States Court of Appeals for the appropriate circuit within 60 days of publication in the Federal Register. We do not plan to open a second comment period on this action, so any parties interested in commenting should do so at this time.

VI. Statutory and Executive Order Reviews

A. General Requirements

Under the CAA, the Administrator is required to approve title V operating permit program revisions that comply with the Act and applicable federal regulations. See 42 U.S.C. 7661a(d). Thus, in reviewing title V permit program submissions, the EPA's role is to approve state choices, provided that they meet the criteria of the CAA. Accordingly, this action merely approves state law as meeting federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because it is not a significant regulatory action under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

This rule does not have tribal implications as specified by Executive Order 13175 (65 FR 67249, November 9, 2000), because the Title V action is not approved to apply in Indian country located in the State, and the EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by November 4, 2025. Filing a petition for reconsideration by the Administrator of this final rule does not affect the finality of this action for the purposes of judicial review, nor does it extend the time within which a petition for judicial review may be filed, and shall not postpone the effectiveness of such rule or action. This action approving California title V permit program revisions may not be challenged later in proceedings to enforce its requirements. (See section 307(b)(2).)

List of Subjects in 40 CFR part 70

Environmental protection, Administrative practice and procedure, Air pollution control, Intergovernmental relations, Reporting and recordkeeping requirements.

Dated: August 19, 2025.
Joshua F. W. Cook,
Regional Administrator, Region IX.

Chapter I, title 40 of the Code of Federal Regulations is amended as follows:

PART 70—STATE OPERATING PERMIT PROGRAMS

1. The authority citation for part 70 continues to read as follows:

Authority: 42 U.S.C. 7401, et seq.

2. Appendix A to Part 70 is amended under “California” by adding paragraph (x)(7) to read as follows:

Appendix A to Part 70—Approval Status of State and Local Operating Permits Programs

* * * * *

California

* * * * *

(x) ***

(7) The District adopted revisions on October 12, 2023. The California Air Resources Board submitted revisions to the EPA on January 19, 2024. Approval is effective on September 5, 2025.

* * * * *

[FR Doc. 2025-17039 Filed 9-4-25; 8:45 am]

BILLING CODE 6560-50-P